DEPARTMENT OF THE INTERIOR

National Park Service

[N6938; NPS-WASO-NAGPRA-NPS0042044; PPWOCRADN0-PCU00RP14.R50000]

Notice of Intended Disposition: U.S. Department of the Interior, National Park Service, Cumberland Island National Seashore, St. Marys, GA

AGENCY: National Park Service, Interior.

ACTION: Notice.

SUMMARY: In accordance with the Native American Graves Protection and Repatriation Act (NAGPRA), the U.S. Department of the Interior, National Park Service, Cumberland Island National Seashore (CUIS) intends to carry out the disposition of human remains and associated funerary objects removed from Federal lands to the consulting tribes with priority for disposition in this notice.

DATES: Disposition of the human remains and associated funerary objects in this notice may occur on or after March 25, 2026. If no claim for disposition is received by February 23, 2027, the human remains and associated funerary objects in this notice will become unclaimed human remains and associated funerary objects.

ADDRESSES: Send written claims for disposition of the human remains and associated funerary objects in this notice to Melissa Trenchik, Superintendent, Cumberland Island National Seashore, 101 Wheeler Street, St. Marys, GA 31558, email melissa_trenchik@nps.gov.

SUPPLEMENTARY INFORMATION: This notice is published as part of the National Park Service's administrative responsibilities under NAGPRA. The determinations in this notice are the sole responsibility of the Superintendent, CUIS, and additional information on the human remains and associated funerary objects in this notice, including the results of consultation, can be found in the related records.

Abstract of Information Available

Based on the information available, human remains representing, at least, one individual have been reasonably identified. At least one lot of associated funerary objects from the shovel test were secured after the identification of human remains. The remains and associated funerary objects were uncovered in Camden County, Georgia during a Section 110 Archeological Survey and discovered on October 28, 2024 during laboratory analysis.

Determinations

The CUIS has determined that:

• The human remains described in this notice represent the physical remains of one individual of Native American ancestry.

• The one lot of objects are reasonably believed to have been placed intentionally with or near individual human remains at the time of death or later as part of the death rite or ceremony.

• The Alabama-Coushatta Tribe of Texas; Alabama-Quassarte Tribal Town; Coushatta Tribe of Louisiana; Eastern Shawnee Tribe of Oklahoma; Kialegee Tribal Town; Miccosukee Tribe of Indians; Poarch Band of Creek Indians; Seminole Tribe of Florida; The Muscogee (Creek) Nation; The Seminole Nation of Oklahoma; and the Thlopthlocco Tribal Town have priority for disposition of the human remains and associated funerary objects described in this notice.

Claims for Disposition

Written claims for disposition of the human remains and associated funerary objects in this notice must be sent to the appropriate official identified in this notice under ADDRESSES. If no claim for disposition is received by February 23, 2027, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after March 25, 2026. If competing claims for disposition are received, CUIS must determine the most appropriate claimant prior to disposition. Requests for joint disposition of the human remains and associated funerary objects are considered a single request and not competing requests. CUIS is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 13, 2026.
Melanie O'Brien,
Manager, National NAGPRA Program.

[FR Doc. 2026-03562 Filed 2-20-26; 8:45 am]

BILLING CODE 4312-52-P